DEPARTMENT OF ENERGY

Federal Energy Regulatory Commission

[Project No. 15000-003]

Notice of Application Ready for Environmental Analysis and Soliciting Comments, Recommendations, Terms and Conditions, and Prescriptions; Erie Boulevard Hydropower, L.P.

Take notice that the following hydroelectric application has been filed with the Commission and is available for public inspection.

a. Type of Application: New Major License.

b. Project No.: 15000-003.

c. Date Filed: June 30, 2022.

d. Applicant: Erie Boulevard Hydropower, L.P. (Erie).

e. Name of Project: Franklin Falls Hydroelectric Project (project).

f. Location: On the Saranac River in Essex and Franklin Counties, New York..

g. Filed Pursuant to: Federal Power Act, 16 U.S.C. 791 (a)-825(r).

h. Applicant Contact: Steven Murphy, Director, U.S. Licensing, Erie Boulevard Hydropower, L.P., 33 West 1st Street South, Fulton, New York 13069; telephone at (315) 598-6130; email at steven.murphy@brookfieldrenewable.com.

i. FERC Contact: Joshua Dub, Project Coordinator, Great Lakes Branch, Division of Hydropower Licensing; telephone at (202) 502-8138; email at Joshua.Dub@FERC.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Franklin Falls Hydroelectric Project (P-15000-003).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes a concrete dam that consists of: (1) a 148-foot-long spillway with 2-foot-high flashboards that have a crest elevation of 1,464.88 feet National Geodetic Vertical Dam of 1929 (NGVD 29); (2) a 12-foot-long section with an 8-foot-long sluice gate; (3) a 28-foot-long intake structure with a gatehouse, two 6-foot-long slide gates, and trashracks with 2-inch clear bar spacing. The dam creates an impoundment with a surface area of 479 acres at an elevation of 1,464.88 feet NGVD 29.

From the impoundment, water flows through the intake structure to a 300-foot-long penstock, surge tank, and two 38-foot-long penstocks that convey water to a powerhouse that contains 920-kilowatt (kW) and 1,200-kW horizontal Francis turbine-generators, for a total installed capacity of 2,120-kW. Water is discharged from the powerhouse to a 100-foot-long tailrace.

Electricity generated at the powerhouse is transmitted to the regional electric grid via two 85-foot-long, 2.3-kilovolt (kV) generator lead lines, a 2.3/46-kV step-up transformer located in a switchyard, and a 155-foot-long, 46-kV transmission line. There are no project recreation facilities.

The minimum and maximum hydraulic capacities of the powerhouse are 30 and 460 cubic feet per second (cfs), respectively. The average annual energy production of the project from 2016 through 2020 was 10,349 megawatt-hours.

The current license requires Erie to: (1) limit impoundment drawdowns to 2 feet below the crest of the flashboards, and 1 foot below the crest of the spillway when flashboards are not in place; (2) install the flashboards annually by the first week of June, unless flow conditions warrant otherwise; (3) release a minimum bypassed reach flow of 125 cfs or inflow to the impoundment, whichever is less, from March 31 through May 31 each year; (4) release a minimum flow of 245 cfs or inflow, whichever is less, downstream of the project from March 1 through June 1 each year; and (5) release inflow downstream of the project from June 2 to March 1 each year, when needed for the downstream Saranac Hydroelectric Project No. 4472 (Saranac Project) to maintain flows required by the Saranac Project's license. Erie utilizes the storage capacity of the impoundment, within the allowable drawdown limits, to meet electricity demand and regulate flow.

Erie proposes to revise the project boundary around the impoundment to follow a contour elevation of 1,464.88 feet NGVD 29, which would remove approximately 24.7 acres from the project boundary. Based on Commission staff's review of the Exhibit G maps and georeferenced shapefiles, Erie also proposes to remove a net total of 1.6 acres of land adjacent to project facilities.

On August 9, 2024, Erie filed a Settlement Agreement for the project's relicense proceeding, on behalf of itself; the U.S. Fish and Wildlife Service; the New York State Department of Environmental Conservation; and Trout Unlimited. As part of the Settlement Agreement, Erie proposes to construct a new bypass flow release structure at the dam to provide minimum bypassed reach flows of 4 cfs and 8 cfs, from November 1 through March 30 and June 1 through October 31, respectively. Erie also proposes to: (1) operate the project in a run-of-river mode by maintaining the surface elevation of the impoundment within 6 inches of the crest of the spillway or flashboards, if present; (2) release a minimum bypassed reach flow of 125 cfs or inflow to the impoundment, whichever is less, from March 31 through May 31; (3) release a year-round minimum flow of 165 cfs or inflow to the impoundment, whichever is less, to the Saranac River downstream of the tailrace; (4) implement measures to maintain continuity of flows downstream of the project during normal project operation and during shutdowns; (5) replace the existing trashrack with a trashrack with 1-inch clear bar spacing; (6) maintain an existing hand-carry boat launch and a portion of an existing portage trail; and (7) implement an Operation Compliance Monitoring Plan, Impoundment Drawdown Plan, Bald Eagle Protection Plan, and Invasive Species Management Plan.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification.

o. Procedural schedule: The application will be processed according to the following schedule. Revisions to the schedule will be made as appropriate.

Milestone | Target date
Filing of Comments, Recommendations, Terms and Conditions, and Prescriptions | April 2025.
Filing of Reply Comments | May 2025.

p. Final amendments to the application must be filed with the Commission no later than 30 days from the issuance date of this notice.

Dated: February 13, 2025.
Debbie-Anne A. Reese,
Secretary.

[FR Doc. 2025-02836 Filed 2-19-25; 8:45 am]

BILLING CODE 6717-01-P